DEPARTMENT OF THE INTERIOR

National Park Service

Coastal Wetlands Restoration at Prisoners Harbor, Santa Cruz Island, Channel Islands National Park, Santa Barbara County, CA; Notice of Intent to Prepare an Environmental Impact Statement

Summary: The National Park Service, in accordance with the provisions of the National Environmental Policy Act (42 U.S.C. 4321 et seq. ), will prepare an Environmental Impact Statement (EIS) to consider suitable means for restoration of a wetland and stream corridor at Prisoners Harbor and lower Canada del Puerto drainage on Santa Cruz Island, Santa Barbara County, California. The Prisoners Harbor area is part of Channel Islands National Park managed by the National Park Service (NPS). The EIS will analyze alternatives for ecological restoration of the wetland and lower stream corridor, ensuring public access, and protecting cultural and historical resources.

Background: Channel Islands National Park is headquartered in Ventura, California. Congress established the park “[i]n order to protect the nationally significant natural, scenic, wildlife, marine, ecological, archeological, cultural, and scientific values of the Channel Islands” (Pub. L. 96-199). The park proposes to restore a functional, self-sustaining ecosystem at a former 9-acre backbarrier coastal wetland site known as Prisoners Harbor and an associated 40-acre stream corridor in the lower Canada del Puerto watershed on Santa Cruz Island. The proposed wetland restoration site includes what was once the largest backbarrier coastal wetland on the Channel Islands. The wetland and stream corridor have been extensively modified over the past 150 years by filling of wetlands, intentional planting and accidental introduction of non-native vegetation such as stone pines, eucalyptus, and kikuyu grass in the area, and construction of a levee, buildings, corral, and unsurfaced roads. These modifications to the creek and floodplain have altered channel hydraulics, resulting in reduced ecosystem function, and contributed to the estimated 95% decline of California's wetlands statewide.

The loss of natural wetland and riparian ecosystems in the Prisoners Harbor area has resulted in locally diminished habitat for federally listed Santa Cruz Island barberry, Santa Cruz Island silver lotus, Santa Cruz Island gooseberry, endemic Santa Cruz Island scrub jay, Santa Cruz Island deer mouse, the rare Channel Islands slender salamander, western harvest mouse, loggerhead shrike, other passerine birds, and migratory waterfowl. Proliferation of non-native eucalyptus trees in the riparian corridor has severely reduced plant and wildlife-diversity and negatively affected habitat for species of special concern and passerine birds.

Preliminary Alternatives and Environmental Issues: The park proposes to restore wetland and riparian ecosystem function by removing fill from the historic wetland, reconnecting the Canada del Puerto stream with its floodplain, removing non-native eucalyptus and other vegetation in the lower drainage, and recreating habitat for special status species (both flora and fauna), passerine birds, and migratory waterfowl. Additionally the project proposes to protect significant cultural resources, and provide for an enhanced visitor experience. A successful project would meet the following goals:

• Restore functional wetland and riparian ecosystems and reduce the impact of non-native species on local biological diversity.

• Consistent with restoring functional ecosystems, recreate and maintain habitat adequate to support populations of special status species, passerine birds, and migratory waterfowl.

• Develop a restoration design that identifies and, to the extent possible, mitigates factors that reduce the site's full restoration potential.

• Protect archaeological resources from erosion during both normal and flood conditions.

• Provide access to the Central Valley inland from the affected area, NPS property east of Prisoners Harbor, and Nature Conservancy inholdings on NPS property upstream from the area of potential effect.

• Reduce risk of exposure to flooding that could damage the roadway and historic buildings.

• Provide visitor access and resource interpretation that are compatible with protection of resources.

• Enhance visitor knowledge and understanding of the prehistory, recent human history, and natural history of the Prisoners Harbor area.

Channel Islands National Park seeks public input to assist with identifying issues and developing a suitable range of alternatives for restoration of the lower Canada del Puerto watershed and Prisoners Harbor wetlands area. Restoration methods could include topographic alterations aimed at recovering natural hydrologic and ecological processes. These potential alterations could change the current hydrologic regime within the proposed project area, leading to either resumption of seasonal flooding of a fully restored wetland/floodplain or limited flooding of a partially restored wetland/floodplain. A “no-action” alternative, entailing no changes in current hydrologic regime, will also be assessed. An archeological site and some historic structures are located within the area of potential effect. Any restoration actions undertaken would be designed to ensure flood risks to the archeological site and historic resources will not be aggravated beyond current conditions and that influence of non-native species, including eucalyptus, on a restored ecosystem dominated by native species is reduced. As part of the effort to develop preliminary alternatives, the NPS will explore options for improved public access and enhacing educational opportunities consistent with ecosystem restoration.

Preliminary public outreach was initiated by the park in 2007. Concern was expressed about the possibility of removing cattle corrals constructed on filled coastal wetland. The corrals were built in the 1950's as part of rancher Carrie Stanton's conversion to a cattle operation. The corrals are considered a “small scale feature” in the 2004 Cultural Landscape Inventory and deemed to be a contributing element to the eligibility of the Santa Cruz Island Ranching District to the National Register of Historic Places. The park has acknowledged this concern and will work with the State Historic Preservation Office in developing mitigation measures common to all alternatives or safeguards specific to a particular alternative if necessary. Other issues or concerns known at this time include potential effects upon: Threatened and endangered species protected under the federal and state Endangered Species Acts, floodplain and stream corridor, native flora and fauna; historic and archeological resources, land use, and opportunities for and constraints on public use.

Public Scoping and Comment Process: Notice is hereby given that the final public scoping phase is underway, with the express purpose of eliciting additional public comment regarding a suitable range of alternatives, the nature and extent of potential environmental impacts and benefits, and appropriate mitigation strategies that should be addressed in the forthcoming conservation planning and environmental impact analysis process. For those who have commented previously, it is not necessary to re-submit comments. Federal, state, and local agencies, Tribes, and interested organizations are also encouraged to participate in the scoping process. Whether California state or local involvement in the environmental impact analysis process is necessary is yet to be determined. If an environmental clearance document is required under the California Environmental Quality Act (CEQA), the NPS will coordinate the NEPA/CEQA process with the designated state agency (or agencies).

A timely opportunity to learn more about the proposed restoration and provide information is a public meeting to be held during summer 2008. Information expected to be provided at the public meeting includes the history of the Prisoners Harbor/Canada del Puerto area, purpose and need for the proposed restoration, opportunities and constraints in developing the restoration design, potential alternative courses of action with regards to restoration, potential effects of these courses of action, and appropriate strategies for mitigation and monitoring. All interested individuals, organizations, and agencies are encouraged to provide comments or suggestions. For those persons unable to attend the meeting, information about the project will be available at http://parkplanning.nps.gov or by contacting the park as noted below.

All written scoping comments must be postmarked or transmitted not later than 45 days following publication of this notice in the Federal Register (immediately upon publication of this notice, the confirmed deadline for comments to be submitted will be posted on the park Web site). Before including your address, phone number, e-mail address, or other personal identifying information in your comment, you should be aware that your entire comment—including your personal identifying information—may be made publicly available at any time. While you can ask us in your comment to withhold your personal identifying information from public review, we cannot guarantee that we will be able to do so. To provide comments or information pertinent to the proposal, inquire about the public meeting, or to request a printed copy of the scoping document, please contact Paula Power, Channel Islands National Park, Attn: Prisoners Harbor Coastal Wetland Restoration Project, 1901 Spinnaker Drive, Ventura, CA 93001, telephone (805) 658-5784; FAX (805) 658-5799; e-mail paulapower@nps.gov). Duplicate informational updates will be regularly posted on the park Web site http://www.nps.gov/chis/home_mngmntdocs.htm and also at http://parkplanning.nps.gov.

Decision Process: At this time, the draft EIS is expected to be available for public review in early 2009; following due consideration of all public and agency comments, it is expected that the final environmental document will be completed in late 2009. As a delegated EIS, the official responsible for the final decision is the Regional Director, Pacific West Region. Subsequently the Superintendent, Channel Islands National Park, would be responsible for implementing the approved restoration and management actions.

Dated: April 28, 2008.
Patricia L. Neubacher,
Acting Regional Director, Pacific West Region.

[FR Doc. E8-12965 Filed 6-10-08; 8:45 am]

BILLING CODE 4310-F6-M